DEPARTMENT OF HEALTH AND HUMAN SERVICES

National Institutes of Health

Draft Report on Carcinogens Monograph on Trichloroethylene; Amended Notice

SUMMARY: The notice amends the Federal Register notice, 79 FR 33203, published June 10, 2014, announcing availability of documents, request for comments, and notice of meeting to peer review the Draft Report on Carcinogens (RoC) Monograph on Trichloroethylene (TCE). The deadline for written public comment submissions has been extended to August 4, 2014. All other information in the original notice has not changed. Information about the meeting and registration is available at http://ntp.niehs.nih.gov/go/38853.

DATES: Written Public Comments Submissions: Deadline is August 4, 2014.

Dated: July 7, 2014.
John R. Bucher,
Associate Director, National Toxicology Program.

[FR Doc. 2014-16449 Filed 7-11-14; 8:45 am]

BILLING CODE 4140-01-P